FEDERAL RESERVE SYSTEM

Change in Bank Control Notices; Formations of, Acquisitions by, and Mergers of Bank Holding Companies; Correction

This notice corrects a notice (FR Doc. 2015-30289) published on page 74772 of the issue for November 30, 2015.

Under the Federal Reserve Bank of Dallas heading, the entry for Child's Disclaimer Trust, Uvalde, Texas, is revised to read as follows:

1. Dolph Briscoe, III, Carrizo Springs, Texas, individually and as trustee of the Dolph Briscoe, III Child's Disclaimer Trust, Dolph Briscoe IV Trust and James Leigh Briscoe Trust; Janey B. Marmion, Uvalde, Texas, individually and as trustee of the Janey B. Marmion Revocable Trust and the Janey B. Marmion Child's Trust No. 2; Cele B. Carpenter, Dallas, Texas, individually and as trustee of the Cele B. Carpenter Child's Disclaimer Trust and Cele B. Carpenter 2008 Trust; John W. Carpenter, III, Dallas, Texas, trustee of the Benjamin H. Carpenter 2012 Legacy Trust, Austin W. Carpenter 2012 Legacy Trust and Bonner B. Carpenter 2012 Legacy Trust; Dolph Briscoe, IV, Austin, Texas; James Leigh Briscoe, Uvalde, Texas; Benjamin H. Carpenter, II, Dallas, Texas; Austin W. Carpenter, Dallas, Texas; and Bonner B. Carpenter, Dallas, Texas; collectively acting as a group in concert, to retain voting shares of Briscoe Ranch, Inc., Uvalde, Texas, and thereby indirectly retain voting shares of First State Bank of Uvalde, Uvalde, Texas and Security State Bank, Pearsall, Texas.

Comments on this application must be received by December 14, 2015.

Board of Governors of the Federal Reserve System, December 3, 2015.
Michael J. Lewandowski,
Associate Secretary of the Board.

[FR Doc. 2015-30887 Filed 12-7-15; 8:45 am]

BILLING CODE 6210-01-P